DEPARTMENT OF STATE

[Public Notice 8965]

In the Matter of the Designation of Said Ali al-Shihri as a Specially Designated Global Terrorist Pursuant to Section 1(b) of Executive Order 13224, as Amended

In accordance with section 1(b) of Executive Order 13224 of September 23, 2001, as amended (“the Order”), I hereby determine that the individual known as Said Ali al-Shihri, also known as other aliases and transliterations, no longer meets the criteria for designation under the Order, and therefore I hereby revoke the designation of the aforementioned individual as a Specially Designated Global Terrorist pursuant to section 1(b) of the Order.

This notice shall be published in the Federal Register.

Dated: November 24, 2014.
John F. Kerry,
Secretary of State.

[FR Doc. 2014-29111 Filed 12-10-14; 8:45 am]

BILLING CODE 4710-37-P